DEPARTMENT OF ENERGY

Federal Energy Regulatory Commission

[Project No. 12962-002; Project No. 12958-002

Newburgh Hydro, LLC; Uniontown Hydro, LLC; Notice of Teleconference

a. Date and Time of Meeting: Thursday, August 14, 2014 at 10:00 a.m. (Eastern Daylight Time).

b. FERC Contact: Brandi Sangunett, Phone: (202) 502-8393, Email: brandi.sangunett@ferc.gov

c. Purpose of Meeting: To discuss the U.S. Fish and Wildlife Service's request for additional freshwater mussel surveys at the proposed Uniontown Hydroelectric Project filed on June 26, 2014.

d. Proposed Agenda:

1. Introduction

2. Freshwater Mussel Survey

3. Summary

e. All local, state, and federal agencies, Indian tribes, and other interested parties are invited to participate by phone. Please contact Brandi Sangunett by August 7, 2014, to RSVP and to receive specific instructions on how to participate.

Dated: July 30, 2014.
Kimberly D. Bose,
Secretary.

[FR Doc. 2014-18488 Filed 8-4-14; 8:45 am]

BILLING CODE 6717-01-P